DEPARTMENT OF HEALTH AND HUMAN SERVICES

National Biodefense Science Board Public Meeting

AGENCY: Office of the Assistant Secretary for Preparedness and Response (ASPR), Department of Health and Human Services (HHS).

ACTION: Notice.

SUMMARY: The National Biodefense Science Board (NBSB or the Board), authorized under Section 319M of the Public Health Service (PHS) Act, as added by Section 402 of the Pandemic and All-Hazards Preparedness Act of 2006 and amended by Section 404 of the Pandemic and All-Hazards Preparedness Reauthorization Act, will hold a public meeting. The NBSB provides expert advice and guidance to the Department of Health and Human Services (HHS) regarding current and future chemical, biological, radiological, and nuclear threats, as well as other matters related to disaster preparedness and response. The Assistant Secretary for Preparedness and Response (ASPR) manages and convenes the NBSB on behalf the Secretary. A detailed agenda and Zoom registration instructions will be posted on the ASPR website at least two weeks in advance.

DATES: The public meeting will be held on September 29, 2022 beginning at 11 a.m. Eastern time.

FOR FURTHER INFORMATION CONTACT: CAPT Christopher Perdue, NBSB Designated Federal Official, NBSB@hhs.gov, 202-401-5837.

SUPPLEMENTARY INFORMATION: Those interested may attend the meeting via a toll-free phone number or Zoom teleconference, which requires pre-registration. The meeting link to pre-register will be posted on the meeting website. The online meeting will include American Sign Language interpretation and live captioning.

Members of the public may provide written comments or submit questions at any time via email to NBSB@hhs.gov. Additionally, the NBSB invites stakeholders to request up to seven minutes to address the Board in-person during the meeting. The Board wishes to hear from experts from relevant biomedical, biodefense, or health industries; faculty or researchers at academic institutions; health professionals, health system experts, or those who work in health care consumer organizations; or experts in state, Tribal, territorial, or local government agencies. Requests to provide remarks to the NBSB during the public meeting must be sent to NBSB@hhs.gov by September 15, 2022. In that request, please provide the speaker's name, title, position, and organization with a brief description of the topic that they will address. Requests to speak to the Board will be approved in consultation with the Board Chair and based on time available during the meeting. Obvious commercial bias, to include any form of advertising, marketing, or solicitation, will not be allowed.

Dawn O'Connell,
Assistant Secretary for Preparedness and Response.

[FR Doc. 2022-16978 Filed 8-8-22; 8:45 am]

BILLING CODE 4150-37-P